DEPARTMENT OF ENERGY

Western Area Power Administration

Energy Imbalance Service

AGENCY: Western Area Power Administration, DOE.

ACTION: Notice of Extension of Comment Period.

SUMMARY: The Western Area Power Administration (Western), a Federal power marketing agency of the Department of Energy (DOE), published on December 20, 2001, in the Federal Register, a notice announcing a revision to the current rate schedule for Energy Imbalance Service for the Western Area Colorado Missouri control area (WACM).

Western held an informal public information meeting on January 15, 2002. As a result of this meeting, several requests were made to extend the comment period to allow for further review of data for those entities within WACM. This will also allow those entities to submit more in-depth comments on the subject.

This Federal Register notice extends the comment period for the Proposed Rate for Energy Imbalance Service from January 31, 2002, to February 28, 2002, and will delay the date that the interim rate is to be placed into effect from April 1, 2002, to May 1, 2002.

DATES: The consultation and comment period has been extended to February 28, 2002. The date that the interim rate is to be placed into effect has been delayed from April 1, 2002, to may 1, 2002.

ADDRESSES: Send written comments about this proposed rate schedule revision to: Mr. Joel K. Bladow, Regional Manager, Rocky Mountain Customer Service Region, Western Area Power Administration, PO Box 3700, Loveland, CO 80539-3003. Interested parties may also fax their comments addressed to Mr. Bladow at (970) 461-7213. Western must receive all written comments by 6 p.m. (MST) February 28, 2002, to be assured consideration.

FOR FURTHER INFORMATION CONTACT: Daniel T. Payton, Rates Manager, 970-461-4772; Paul Humberson, Project Manager, 970-461-7327; or Lynn E. Richardson, Public Utilities Specialist, 970-461-7440.

Dated: February 5, 2002.
Michael S. Hacskaylo,
Adminstrator.

[FR Doc. 02-3888 Filed 2-15-02; 8:45 am]

BILLING CODE 6450-01-M